NUCLEAR REGULATORY COMMISSION

10 CFR Parts 26, 60, 63, 73, and 74

[NRC-2007-0670, NRC-2009-0089, and NRC-2015-0018]

RIN 3150-AI06, 3150-AI38, and 3150-AJ55

Rulemaking Activities Being Discontinued by the NRC

AGENCY: Nuclear Regulatory Commission.

ACTION: Rulemaking activities; discontinuation.

SUMMARY: The U.S. Nuclear Regulatory Commission (NRC) is discontinuing three rulemaking activities. The purpose of this action is to inform members of the public that these rulemaking activities are being discontinued and to provide a brief discussion of the NRC's decision to discontinue them. These rulemaking activities will no longer be reported in the NRC's portion of the Unified Agenda of Regulatory and Deregulatory Actions (the Unified Agenda).

DATES: The rulemaking activities discussed in this document are discontinued as of February 25, 2026.

ADDRESSES: Please refer to Docket IDs NRC-2007-0670, NRC-2009-0089, and NRC-2015-0018 when contacting the NRC about the availability of information regarding this action. You may obtain publicly available information related to this action by any of the following methods:

• Federal Rulemaking Website: Go to https://www.regulations.gov and search for Docket IDs NRC-2007-0670, NRC-2009-0089 and NRC-2015-0018. Address questions about NRC dockets to Helen Chang; telephone: 301-415-3228; email: Helen.Chang@nrc.gov.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

FOR FURTHER INFORMATION CONTACT: Tyler Hammock, U.S. Nuclear Regulatory Commission, Washington DC 20555-0001; telephone: 301-415-1381, email: tyler.hammock@nrc.gov.

SUPPLEMENTARY INFORMATION:

I. Background

In response to Executive Order (E.O.) 14300, “Ordering the Reform of the Nuclear Regulatory Commission,” the NRC conducted a review of ongoing and potential rulemaking activities and identified three rulemaking activities in various stages of development that the Commission has approved to be discontinued. The NRC will update the next edition of the Unified Agenda to indicate that these rulemakings are discontinued. These rulemaking activities will appear in the completed actions section of that edition of the Unified Agenda but will not appear in future editions. Section II of this document contains a brief discussion of each of the rulemaking activities.

II. Discontinued Rulemaking Activities

Geologic Repository Operations Area Security and Material Control and Accounting Requirements (RIN 3150-AI06; NRC-2007-0670)

On December 20, 2007 (72 FR 72522), the NRC issued a proposed rule regarding security measures for the protection of spent nuclear fuel, high-level radioactive waste, and other radioactive material at a geologic repository operations area (GROA) licensed under title 10 of the Code of Federal Regulations (10 CFR) part 63, “Disposal of High-Level Radioactive Wastes in a Geologic Repository at Yucca Mountain, Nevada.” The NRC proposed new requirements for training, access authorization, defensive strategies, and reporting. The proposed rule would have established general performance objectives and corresponding system capabilities for the GROA material control program, with a focus on strengthening, streamlining, and consolidating all material control and accounting regulations specific to a GROA. In addition, the proposed rule would have required an emergency plan to address radiological emergencies.

Due to a change in agency priorities in light of the scope of E.O. 14300 rulemaking activities, and a significant amount of time elapsing since the proposed rule was issued, the NRC has decided not to proceed with this rulemaking.

Geologic Repository Operations Area (GROA) Fitness-for-Duty Requirements (RIN 3150-AI38; NRC-2009-0089)

In 2008, the NRC begun plans for a rulemaking that would have amended the NRC's regulations regarding the fitness-for-duty requirements for personnel in a geologic repository operations area. The rule would have imposed fatigue provisions on security personnel and reinstated the alcohol and drug provisions of the fitness-for-duty requirements at a geologic repository operations area. The scope of the rulemaking would have affected fitness-for-duty programs at geological repository operations areas. Due to a change in agency priorities in light of the scope of E.O. 14300 rulemakings, the NRC has decided not to proceed with this rulemaking.

Enhanced Weapons for Spent Fuel Storage Installations and Transportation—Section 161A Authority (RIN 3150-AJ55; NRC-2015-0018)

In 2015, the NRC began plans for a rulemaking that would have amended the NRC's regulations to implement the authority in Section 161A of the Atomic Energy Act of 1954, as amended, related to access to enhanced weapons and associated firearms background checks for the protection of spent nuclear fuel. The rule would have designated additional classes of facilities and activities appropriate for Section 161A authority, as a follow-on to the original Enhanced Weapons rule (88 FR 15864). Due to lack of expressed interest from additional classes of NRC licensees interested in obtaining enhanced weapons authority, the staff has decided to terminate rulemaking activities for the follow-on rule. If in the future the NRC receives a license application for a class of facility not already eligible for enhanced weapons authority, the Commission may grant such authority via order or license condition. Additionally, due to a change in agency priorities in light of the scope of E.O. 14300 rulemakings, the NRC has decided not to proceed with this rulemaking.

III. Conclusion

The NRC is no longer pursuing the three rulemaking activities for the reasons discussed in this document. In the next edition of the Unified Agenda, the NRC will update the entry for these rulemaking activities and reference this document to indicate that they are no longer being pursued. These rulemaking activities will appear in the completed actions section of that edition of the Unified Agenda but will not appear in future editions. If the NRC decides to pursue similar or related rulemaking activities in the future, it will inform the public through new rulemaking entries in the Unified Agenda.

Dated: February 23, 2026.
For the Nuclear Regulatory Commission.
Michael King,
Executive Director for Operations.

[FR Doc. 2026-03791 Filed 2-24-26; 8:45 am]

BILLING CODE 7590-01-P